DEPARTMENT OF INTERIOR

National Park Service

National Register of Historic Places; Notification of Pending Nominations and Related Actions

Nominations for the following properties being considered for listing or related actions in the National Register were received by the National Park Service before October 27, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by November 28, 2007.

J. Paul Loether,
Chief, National Register of Historic Places/ National Historic Landmarks Program.

DISTRICT OF COLUMBIA

District of Columbia

Armed Forces Retirement Home—Washington, 3700 N Capitol St, NW, Washington, 07001237.

ILLINOIS

Cook County

Lumber Exchange Building and Tower Addition, 11 S LaSalle, Chicago, 07001238.

West Burton Place Historic District, 143-161 W Burton Pl, Chicago, 07001239.

MASSACHUSETTS

Bristol County

Spring Brook Cemetery, Spring St, Mansfield, 07001240.

Middlesex County

Revere Beach Parkway—Metropolitan Park System of Greater Boston, (Metropolitan Park System of Greater Boston MPS), Revere Beach Pkwy, Chelsea, 07001241.

MINNESOTA

Dodge County

Kasson Public School, 101 3rd Ave, NW, Kasson, 07001242.

MONTANA

Musselshell County

Roundup Central School, 600 1st St W, Roundup, 07001243.

NORTH DAKOTA

Burleigh County

Camp Hancock, 101 Main Ave, Bismarck, 07001244.

[FR Doc. 07-5613 Filed 11-09-07; 8:45 am]

BILLING CODE 4312-51-M